ENVIRONMENTAL PROTECTION AGENCY

40 CFR Part 52

[EPA-R09-OAR-2013-0683; FRL-9905-26-Region 9]

Revisions to the California State Implementation Plan; South Coast Air Quality Management District and El Dorado County Air Quality Management District

AGENCY: Environmental Protection Agency (EPA).

ACTION: Final rule.

SUMMARY: The Environmental Protection Agency (EPA) is finalizing approval of revisions to the South Coast Air Quality Management District and El Dorado County Air Quality Management District portions of the California State Implementation Plan (SIP). The South Coast action was proposed in the Federal Register on September 13, 2013 and concerns carbon monoxide emissions from cement kilns. The El Dorado County action was proposed in the Federal Register on October 25, 2013 and concerns the District's demonstration that its rules met reasonably available control technology (RACT) requirements under the 1997 8-hour ozone National Ambient Air Quality Standards (NAAQS). We are approving these documents under the Clean Air Act (CAA or the Act).

DATES: This rule will be effective on April 14, 2014.

ADDRESSES: EPA has established docket number EPA-R09-OAR-2013-0683 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. Proposed Action.

II. Public Comments and EPA Responses.

III. EPA Action.

IV. Statutory and Executive Order Reviews.

I. Proposed Action

On September 13, 2013 (78 FR 56639) under Docket# EPA-R09-OAR-2013-0596, EPA proposed to approve the following rule into the California SIP.

Local agency | Rule # | Rule title | Amended | Submitted
SCAQMD | 1112.1 | Emissions of Particulate Matter and Carbon Monoxide from Cement Kilns | 12/4/09 | 07/20/10

On October 25, 2013 (78 FR 63934) under Docket# EPA-R09-OAR-2013-0683, EPA proposed to approve the following document into the California SIP.

Local agency | Document | Adopted | Submitted
EDAQMD | EDAQMD Reasonably Available Control Technology (RACT) State Implementation Plan (SIP) Update Analysis Staff Report (“2006 RACT SIP”) | 02/06/07 | 07/11/07

Our technical support document for the proposed approval of EDAQMD's 2006 RACT SIP included a suggestion that EDAQMD submit negative declarations for the metal parts and products, solvent metal cleaning, and graphic arts Control Technique Guidelines categories. These negative declarations were submitted to EPA on September 30, 2013, and we are taking separate action on them.

We proposed to approve SCAQMD Rule 1112.1 and EDAQMD's 2006 RACT SIP because we determined that they complied with the relevant CAA requirements. Our proposed action contains more information on the submitted documents and our evaluation.

II. Public Comments and EPA Responses

EPA's proposed actions provided a 30-day public comment period. The docket for South Coast Rule 1112.1 “Emissions of Particulate Matter and Carbon Monoxide from Cement Kilns” received one comment. The comment was not germane to the proposed action and requested clarification on the geographic boundary to which the Santa Barbara County Air Pollution Control District's outer continental shelf applied. EPA provided a separate reply to the commenter. We received no comments on the proposed approval of El Dorado County's 2006 RACT SIP.

III. EPA Action

No comments were submitted that change our assessment of the submitted documents as described in our proposed actions. Therefore, as authorized in section 110(k)(3) of the Act, EPA is fully approving these documents into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by [insert date 60 days from date of publication of this document in the Federal Register]. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Incorporation by reference, Intergovernmental relations, Nitrogen dioxide, Ozone, Particulate matter, Reporting and recordkeeping requirements, Volatile organic compounds.

Dated: December 16, 2013.
Jared Blumenfeld,
Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220, is amended by adding paragraphs (c)(381) (i)(K) and (382)(ii) to read as follows:

§ 52.220 Identification of plan.

* * * * *

(c) * * *

(381) * * *

(i) * * *

(K) South Coast Air Quality Management District.

(1) Rule 1112.1, “Emissions of Particulate Matter and Carbon Monoxide from Cement Kilns,” amended on December 4, 2009.

* * * * *

(382) * * *

(i) * * *

(ii) Additional Material

(A) El Dorado County Air Quality Management District.

(1) El Dorado County Air Quality Management District Reasonably Available Control Technology (RACT) State Implementation Plan (SIP) Update Analysis Staff Report (“2006 RACT SIP”) adopted on February 6, 2007.

* * * * *

[FR Doc. 2014-05387 Filed 3-12-14; 8:45 am]

BILLING CODE 6560-50-P